DEPARTMENT OF LABOR

Office of Workers' Compensation Programs; OMB Approval of Information Collection; Federal Employees' Compensation Act, As Amended

AGENCY: Office of Workers' Compensation Programs, Employment Standards Administration, Labor.

ACTION: Notice of OMB approval under the Paperwork Reduction Act of 1995.

SUMMARY: The Office of Workers' Compensation Programs (OWCP) is announcing that the Office of Management and Budget (OMB) has approved, under the Paperwork Reduction Act of 1995, a new collection of information under the Federal Employees' Compensation Act, as amended. This notice announces both the OMB approval number and expiration date.

COMPLIANCE DATE: As of July 29, 2003, affected parties must comply with the new information collection requirements described below, which have been approved by OMB under the Paperwork Reduction Act of 1995 (PRA), 44 U.S.C. 3501 et seq.

FOR FURTHER INFORMATION CONTACT: Shelby Hallmark, Director, Office of Workers' Compensation Programs, Employment Standards Administration, U.S. Department of Labor, Room S-3524, 200 Constitution Avenue, NW, Washington, DC 20210. Telephone: 202-693-0036 (this is not a toll-free number).

SUPPLEMENTARY INFORMATION: On April 11, 2003, OWCP requested OMB approval under the PRA of a new information collection for the Federal Employees' Compensation Act, as amended (FECA), 5 U.S.C. 8101 et seq. The new information collection requirements that needed OMB approval are derived from sections 8131 and 8132 of the FECA, and its implementing regulations at 20 CFR 10.707 and 10.710, and consist of requests for information necessary to calculate the amount of the United States' statutory right to a refund out of the proceeds of a judgment or settlement of an action against a third party liable to pay damages for an injury compensable under the FECA.

On July 14, 2003, OMB approved this information collection request for three years. The OMB control number assigned to this information collection is 1215-0200. The approval for this information collection will expire on July 31, 2006.

Signed at Washington, DC this 22nd day of July, 2003.
Shelby Hallmark,
Director, Office of Workers' Compensation Programs, Employment Standards Administration.

[FR Doc. 03-19217 Filed 7-28-03; 8:45 am]

BILLING CODE 4510-CH-P